EXPORT-IMPORT BANK

[Public Notice: 2019-3011]

Agency Information Collection Activities: Comment Request

AGENCY: Export-Import Bank of the U.S.

ACTION: Submission for OMB review and comments request.

SUMMARY: The Export-Import Bank of the United States (EXIM), as a part of its continuing effort to reduce paperwork and respondent burden, invites the general public and other Federal Agencies to comment on the proposed information collection, as required by the Paperwork Reduction Act of 1995. The purpose of this collection is to gather information necessary to make a determination of eligibility of a transaction for EXIM assistance under its medium-term guarantee and insurance program.

The form can be viewed at: http://www.exim.gov/sites/default/files/pub/pending/eib03-02_0.pdf.

DATES: Comments should be received on or before June 13, 2019 to be assured of consideration.

ADDRESSES: Comments may be submitted electronically on http://www.regulations.gov (EIB 03-02) or by mail to Office of Information and Regulatory Affairs, 725 17th Street NW, Washington, DC 20038, Attn: OMB 3048-0014.

SUPPLEMENTARY INFORMATION:

Titles and Form Number: EIB 03-02, Application for Medium Term Insurance or Guarantee.

OMB Number: 3048-0014.

Type of Review: Renewal.

Need and Use: The purpose of this collection is to gather information necessary to make a determination of eligibility of a transaction for EXIM assistance under its medium-term guarantee and insurance program.

Affected Public: This form affects entities involved in the export of U.S. goods and services.

Annual Number of Respondents: 400.

Estimated Time per Respondent: 2 hours.

Annual Burden Hours: 800 hours.

Frequency of Reporting or Use: As needed.

Government Expenses:

Reviewing Time per Year: 700 hours.

Average Wages per Hour: $42.50.

Average Cost per Year: $29,750 (time * wages).

Benefits and Overhead: 20%.

Total Government Cost: $35,700.

Bassam Doughman,
IT Specialist.

[FR Doc. 2019-09917 Filed 5-13-19; 8:45 am]

BILLING CODE 6690-01-P